DEPARTMENT OF COMMERCE

International Trade Administration

[A-570-904]

Certain Activated Carbon From the People's Republic of China: Extension of Time Limits for Preliminary Results of the Third Antidumping Duty Administrative Review

AGENCY: Import Administration, International Trade Administration, Department of Commerce.

DATES: Effective Date: October 6, 2010.

FOR FURTHER INFORMATION CONTACT: Bob Palmer or Katie Marksberry, AD/CVD Operations, Office 9, Import Administration, International Trade Administration, U.S. Department of Commerce, 14th Street and Constitution Avenue, NW., Washington, DC 20230; telephone: (202) 482-9068 or (202) 482-7905, respectively.

Background

On May 28, 2010, the Department of Commerce (“the Department”) published in the Federal Register a notice of initiation of an administrative review of the antidumping duty order on certain activated carbon from the People's Republic of China (“PRC”) covering the period April 1, 2009, through March 31, 2010. See Initiation of Antidumping and Countervailing Duty Administrative Reviews, 75 FR 29976 (May 28, 2010); see also Initiation of Antidumping and Countervailing Duty Administrative Reviews and Requests for Revocation in Part, 75 FR 37759 (June 30, 2010).

On July 21, 2010, the Department selected one mandatory respondent in the above-referenced administrative review pursuant to section 777A(c)(2)(B) of the Tariff Act of 1930, as amended (“the Act”). See Memorandum to James Doyle, Director, Office 9, from Jamie Blair-Walker, Case Analyst, and Kabir Archuletta, Case Analyst, RE: Antidumping Duty Administrative Review of Certain Activated Carbon from the People's Republic of China: Selection of Respondent for Individual Review, dated July 21, 2010. On September 29, 2010, the Department selected Calgon Carbon (Tianjin) (“CCT”) as the second mandatory respondent in the above-referenced administrative review pursuant to section 777A(c)(2)(B) the Act. See Memorandum to James Doyle, Director, Office 9, through Catherine Bertrand, Program Manager, Office 9, from Katie Marksberry, International Trade Specialist, RE: Antidumping Duty Administrative Review of Certain Activated Carbon from the People's Republic of China: Selection of Additional Mandatory Respondent, dated September 29, 2010. The preliminary results of this administrative review are currently due on December 31, 2010.

Statutory Time Limits

Section 751(a)(3)(A) of the Act requires the Department to issue the preliminary results of an administrative review within 245 days after the last day of the anniversary month of an order for which a review is requested. Consistent with section 751(a)(3)(A) of the Act, the Department may extend the 245-day period to 365 days if it is not practicable to complete the review within a 245-day period.

Extension of Time Limit of Preliminary Results

The preliminary results are currently due on December 31, 2010. This administrative review covers two mandatory respondents, both of whom have numerous suppliers which will require the Department to gather and analyze a significant amount of information pertaining to each supplier's manufacturing methods. Moreover, because several rounds of comments and extensive analysis had delayed the Department's selection of CCT as the second mandatory respondent, the Department will need additional time to fully analyze CCT's initial questionnaire responses prior to the preliminary results. This extension is also necessary to give all parties to the proceeding adequate time to supply the Department with information related to CCT's factors of production. The current date of the preliminary results does not afford the Department adequate time to gather, analyze, request supplementary information, and allow parties to fully participate in the proceeding.

Therefore, in accordance with section 751(a)(3)(A) of the Act, the Department finds that it is not practicable to complete the preliminary results within the original time period and thus the Department is extending the time limit for issuing the preliminary results by 120 days until April 30, 2011. The final results continue to be due 120 days after the publication of the preliminary results.

This notice is published pursuant to sections 751(a)(3)(A) and 777(i)(1) of the Act and 19 CFR 351.213(h)(2).

Dated: September 30, 2010.
Susan H. Kuhbach,
Acting Deputy Assistant Secretary for Antidumping and Countervailing Duty Operations.

[FR Doc. 2010-25231 Filed 10-5-10; 8:45 am]

BILLING CODE 3510-DS-P